NATIONAL AERONAUTICS AND SPACE ADMINISTRATION

[Notice (13-056)]

Government-Owned Inventions, Available for Licensing

AGENCY: National Aeronautics and Space Administration.

ACTION: Notice of Availability of Inventions for Licensing.

SUMMARY: The inventions listed below assigned to the National Aeronautics and Space Administration, has been filed in the United States Patent and Trademark office, and are available for licensing.

DATES: May 20, 2013.

FOR FURTHER INFORMATION CONTACT: Edward K. Fein, Patent Counsel, Johnson Space Center, Mail Code AL, 2101 NASA Parkway, Houston, TX 77058, (281)483-4871; (281) 483-6936 [Facsimile].

NASA Case No.: MSC-24798-1: Soft Decision Analyzer and Method;

NASA Case No.: MSC-24919-1: Systems and Methods for RFID-Enables Information Collection;

NASA Case No.: MSC-25632-1: Robot Task Commander with Extensible Programming Environment;

NASA Case No.: MSC-25604-1: Systems and Methods for RFID-Enabled Dispenser;

NASA Case No.: MSC-25313-1: Hydrostatic Hyperbaric Apparatus and Method;

NASA Case No.: MSC-25265-1: Device and Method and for Digital-to-Analog Transformation and Reconstruction of Multi-channel Electrocardiograms;

NASA Case No.: MSC-24813-1: Preparation System and Method;

NASA Case No: MSC-25590-1: Systems and Methods for RFID-Enabled Pressure Sensing Apparatus;

NASA Case No.: MSC-25605-1: Switch Using Radio Frequency Identification.

Sumara M. Thompson-King,
Deputy General Counsel.

[FR Doc. 2013-11944 Filed 5-17-13; 8:45 am]

BILLING CODE 7510-13-P